INTERNATIONAL TRADE COMMISSION

[Investigation No. 337-TA-909]

Certain Non-Volatile Memory Devices and Products Containing Same Commission Determination Not No Review an Initial Determination Granting an Unopposed Motion to Terminate the Investigation as to Respondent Tellabs, Inc. and for Leave to Amend the Complaint and Notice of Investigation

AGENCY: U.S. International Trade Commission.

ACTION: Notice.

SUMMARY: Notice is hereby given that the U.S. International Trade Commission has determined not to review an initial determination (“ID”) (Order No. 15) of the presiding administrative law judge (“ALJ”) granting an unopposed motion (1) to terminate the investigation as to respondent Tellabs, Inc. of Naperville, Illinois and (2) for leave to amend the complaint and notice of investigation to substitute Tellabs Operations, Inc. and Tellabs North America, Inc. both of Naperville, Illinois for Tellabs, Inc.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-909 on February 3, 2014, based on a complaint filed by Macronix International Co., Ltd. of Hsin-chu, Taiwan and Macronix America, Inc. of Milpitas, California (collectively, “Macronix”). 79 FR 6227-228 (Feb. 3, 2014). The complaint alleged violations of section 337 of the Tariff Act of 1930, as amended, (19 U.S.C. 1337) in the importation into the United States, the sale for importation, and the sale within the United States after importation of certain non-volatile memory devices and products containing the same by reason of infringement of various claims of United States Patent Nos. 6,552,360; 6,100,557; and 6,002,630. The notice of investigation named several respondents. The Office of Unfair Import Investigations is a party to the investigation.

On July 25, 2014, Macronix and Tellabs, Inc. moved, unopposed, (1) to terminate the investigation as to Tellabs, Inc. and (2) for leave to amend the complaint and notice of investigation to substitute Tellabs Operations, Inc. and Tellabs North America, Inc. for Tellabs, Inc. The parties stated that the Commission investigative attorney and the other named respondents do not oppose the motion. No responses to the motion were filed.

On August 5, 2014, the ALJ issued the subject ID, granting the unopposed motion. The ALJ found that the motion to terminate Tellabs, Inc. complied with the requirements of Commission Rule 210.21(a) (19 CFR 210.21(a)) and that no extraordinary circumstances prohibited granting the motion. Regarding amending the complaint and notice of investigation, the ALJ found that, pursuant to Commission Rule 210.14(b) (19 CFR 210.14(b)), good cause existed to amend the complaint and notice of investigation. None of the parties petitioned for review of the ID.

The Commission has determined not to review the ID.

The authority for the Commission's determination is contained in section 337 of the Tariff Act of 1930, as amended (19 U.S.C. 1337), and in part 210 of the Commission's Rules of Practice and Procedure (19 CFR part 210).

By order of the Commission
Issued: September 4, 2014.
Lisa R. Barton,
Secretary to the Commission.

[FR Doc. 2014-21485 Filed 9-9-14; 8:45 am]

BILLING CODE 7020-02-P